DEPARTMENT OF HEALTH AND HUMAN SERVICES

Health Care Financing Administration

[Document Identifier: HCFA-R-296]

Agency Information Collection Activities: Submission for OMB Review; Comment Request

In compliance with the requirement of section 3506(c)(2)(A) of the Paperwork Reduction Act of 1995, the Health Care Financing Administration (HCFA), Department of Health and Human Services, is publishing the following summary of proposed collections for public comment. The proposed collections consist of uniform mandatory notices to be given to Medicare home health beneficiaries by home health agencies (HHAs) when the HHA believes that services may not or may no longer be covered. As a result of comments to the effect that the notices are poorly designed in that they are too long, complex, and overcrowded with symbols, the Home Health Advance Beneficiary Notices have been revised. These revisions consist of simplifications of the graphics, giving the notices a notably less cluttered look; reordering of the text and options, and elimination of some repetition in order to reduce complexity. As a result of comments suggesting a fourth option for billing another insurer and suggesting removal of the reference to the beneficiary's “need” for care in Option “A,” the Home Health Advance Beneficiary Notices have been revised by adding clarifying language to Option “B” (now Option “1”), emphasizing that other insurers may be billed, and by rewording Option “A” (now Option “2”), removing the reference to the “need” for care. As a result of a comment that there was a lack of information in the notices about legal assistance for beneficiaries, the Home Health Advance Beneficiary Notices have been revised to include information about legal assistance for beneficiaries and some other related access-to-assistance information, as a new page, and to include a brief notice about beneficiaries' right to have their personal health information kept confidential. Interested persons are invited to send comments regarding the revisions, and burden or any other aspect of these collections of information requirements. Comments may also be sent regarding the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection.

Title of Information Collection: Home Health Advance Beneficiary Notices (HHABNs) and Supporting Regulations in 42 CFR Section 411.404-.406, 484.10, and 484.12(a).

Form No.: HCFA-R-0296 (OMB# 0938-0781).

Use: Beneficiaries must receive timely, accurate, complete, and useful notices which will enable them to make informed consumer decisions, with a proper understanding of their rights to a Medicare initial determination, their appeal rights in the case of payment denial, and how these rights are waived if they refuse to allow their health information to be sent to Medicare. It is essential that such notice be timely, readable and comprehensible, provide clear directions, and provide accurate and complete information about the services affected and the reason that Medicare denial of payment for those services is expected by the HHA. For these reasons, uniform mandatory notices (the HHABNs) with very specific content and graphic design have been prepared, which are to be used by all HHAs furnishing services to Medicare beneficiaries.

When an HHA expects payment for the home health services to be denied by Medicare, a beneficiary must be advised before home health care is initiated or continued that, in the HHA's opinion, payment probably will be required from him or her personally or through other insurance. The HHABNs are designed to ensure that HHAs inform beneficiaries in writing, in a timely fashion, about changes to their home health care, the fact that they may have to pay for care themselves if Medicare does not pay, the process they must follow in order to obtain an initial determination by Medicare and, if payment is denied, to file an appeal, and the fact that they waive those rights if they refuse to allow their health information to be sent to Medicare. The HHABNs are to be issued by the HHA each time, and as soon as, the HHA makes the assessment that it believes Medicare payment will not be made. The HHABNs are to be provided by HHAs in any case where a reduction or termination of services is to occur, or where services are to be denied before being initiated, except in any case in which a physician concurs in the reduction, termination, or denial of services. Failure to do so would be a violation of the HHA Conditions of Participation in the Medicare Program, which are currently approved PRA requirements approved under OMB number 0938-0365, and may result in the HHA being held liable under the Limitation on Liability (LOL) provision.

Home Health Advance Beneficiary Notices (HHABNs)

HHABNs serve as notice to the beneficiary that the HHA believes that home health services are not, or will no longer be, covered in different situations. HHABN-T, Termination, is used when all home health services will be terminated. HHABN-I, Initiation, is used when the HHA expects, even before services have been initiated, that Medicare will not pay. HHABN-R, Reduction, is used when ongoing home health services will be reduced (e.g., reduced in number, frequency, or for a particular subset of services, or otherwise).

Frequency: On occasion.

Affected Public: Individuals or Households, Business or other for-profit, Not-for-profit institutions.

Number of Respondents: 540,000.

Total Annual Responses: 1,080,000.

Total Annual Hours: 180,000.

To obtain copies of the supporting statement for the proposed paperwork collections referenced above, access HCFA's Web Site Address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: April 10, 2000.
John P. Burke III,
HCFA Reports Clearance Officer, HCFA, Office of Information Services, Security and Standards Group, Division of HCFA Enterprise Standards.

[FR Doc. 00-10268 Filed 4-24-00; 8:45 am]

BILLING CODE 4120-03-P